SUSQUEHANNA RIVER BASIN COMMISSION

Actions Taken at June 4, 2015, Meeting

AGENCY: Susquehanna River Basin Commission.

ACTION: Notice.

SUMMARY: As part of its regular business meeting held on June 4, 2015, in Baltimore, Maryland, the Commission took the following actions: (1) Approved or tabled the applications of certain water resources projects; (2) accepted a settlement in lieu of penalty from Wyoming Valley Country Club; and (3) took additional actions, as set forth in the Supplementary Information below.

DATES: June 4, 2015.

ADDRESSES: Susquehanna River Basin Commission, 4423 N. Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) Election of the member from the Commonwealth of Pennsylvania as Chair of the Commission and the member from the State of Maryland as the Vice Chair of the Commission for the period of July 1, 2015, to June 30, 2016; (2) adoption of the FY2016/2017 Water Resources Program; (3) adoption of FY2016 Regulatory Program Fee Schedule, effective July 1, 2015; (4) adoption of a FY2017 budget for the period July 1, 2016, to June 30, 2017; (5) conditional transfer of Docket No. 20021014 to Augusta Water, Inc.; (6) denial of Shrewsbury Borough Council's request to waive the requirements of 18 CFR 806.4(a)(2)(ii) pertaining to the two Borough wells that pre-date SRBC regulations, accompanied by direction to Commission staff to consult with the Borough regarding possible alternatives; (7) a report on delegated settlements with the following project sponsors, pursuant to SRBC Resolution 2014-15: Black Bear Waters LLC, in the amount of $5,600; Pennsylvania General Energy Co., LLC, in the amount of $2,400; Muncy Borough Municipal Authority, in the amount of $5,000; Marshland Links, LLC/The Links at Hiawatha Landing, in the amount of $4,800; and Inflection Energy (PA), LLC, in the amount of $1,000; and (8) tabling of the Show Cause proceeding with Four Seasons Golf Course.

Compliance Matter

The Commission approved a settlement in lieu of civil penalty for the following project:

1. Wyoming Valley Country Club, Hanover Township, Luzerne County, Pa.—$15,000.

Project Applications Approved

The Commission approved the following project applications:

1. Project Sponsor and Facility: Anadarko E&P Onshore LLC (Pine Creek), McHenry Township, Lycoming County, Pa. Renewal of surface water withdrawal of up to 1.500 mgd (peak day) (Docket No. 20110601).

2. Project Sponsor and Facility: Carrizo (Marcellus), LLC (Meshoppen Creek), Washington Township, Wyoming County, Pa. Renewal of surface water withdrawal of up to 2.160 mgd (peak day) (Docket No. 20110603).

3. Project Sponsor and Facility: Carrizo (Marcellus), LLC (Unnamed Tributary to Middle Branch Wyalusing Creek), Forest Lake Township, Susquehanna County, Pa. Renewal of surface water withdrawal of up to 0.648 mgd (peak day) (Docket No. 20110605).

4. Project Sponsor and Facility: Constitution Pipeline Company, LLC (Charlotte Creek), Town of Davenport, Delaware County, N.Y. Surface water withdrawal of up to1.000 mgd (peak day).

5. Project Sponsor and Facility: Constitution Pipeline Company, LLC (Ouleout Creek), Town of Sidney, Delaware County, N.Y. Surface water withdrawal of up to 1.750 mgd (peak day).

6. Project Sponsor and Facility: Constitution Pipeline Company, LLC (Starrucca Creek), Harmony Township, Susquehanna County, Pa. Surface water withdrawal of up to 2.052 mgd (peak day).

7. Project Sponsor and Facility: Furman Foods, Inc., Point Township, Northumberland County, Pa. Modification to add a source to the consumptive water use approval (no increase requested in current consumptive water use quantity) (Docket No. 20130608).

8. Project Sponsor and Facility: Furman Foods, Inc., Point Township, Northumberland County, Pa. Groundwater withdrawal of up to 0.504 mgd (30-day average) from Well 10.

9. Project Sponsor and Facility: Hydro Recovery, LP, Blossburg Borough, Tioga County, Pa. Renewal of groundwater withdrawal of up to 0.216 mgd (30-day average) from Well HR-1 (Docket No. 20110612).

10. Project Sponsor and Facility: Hydro Recovery, LP, Blossburg Borough, Tioga County, Pa. Renewal of consumptive water use of up to 0.316 mgd (peak day) (Docket No. 20110612).

11. Project Sponsor and Facility: Keystone Clearwater Solutions, LLC (Driftwood Branch Sinnemahoning Creek), Emporium Borough, Cameron County, Pa. Renewal of surface water withdrawal of up to 0.999 mgd (peak day) (Docket No. 20110614).

12. Project Sponsor and Facility: Keystone Clearwater Solutions, LLC (Lycoming Creek), Lewis Township, Lycoming County, Pa. Renewal of surface water withdrawal of up to 1.250 mgd (peak day) (Docket No. 20110616).

13. Project Sponsor and Facility: Millersville University of Pennsylvania, Millersville Borough, Lancaster County, Pa. Consumptive water use of up to 0.080 mgd (peak day).

14. Project Sponsor and Facility: Millersville University of Pennsylvania, Millersville Borough, Lancaster County, Pa. Groundwater withdrawal of up to 0.175 mgd (30-day average) from Well 1.

15. Project Sponsor and Facility: Nature's Way Purewater Systems, Inc., Dupont Borough, Luzerne County, Pa. Modification to increase consumptive water use by an additional 0.092 mgd (peak day), for a total of up to 0.349 mgd (peak day) (Docket No. 20110618).

16. Project Sponsor: Pennsylvania Department of Environmental Protection—South-central Regional Office, City of Harrisburg, Dauphin County, Pa. Facility Location: Leacock Township, Lancaster County, Pa. Groundwater withdrawal of up to 0.324 mgd (30-day average) from Stoltzfus Well.

17. Project Sponsor: Pennsylvania Department of Environmental Protection—South-central Regional Office, City of Harrisburg, Dauphin County, Pa. Facility Location: Leacock Township, Lancaster County, Pa. Groundwater withdrawal of up to 0.324 mgd (30-day average) from Township Well.

Project Applications Tabled:

The Commission tabled action on the following project applications:

1. Project Sponsor and Facility: Chetremon Golf Course, LLC, Burnside Township, Clearfield County, Pa. Application for consumptive water use of up to 0.200 mgd (peak day).

2. Project Sponsor and Facility: Chetremon Golf Course, LLC (Irrigation Storage Pond), Burnside Township, Clearfield County, Pa. Application for surface water withdrawal of up to 0.200 mgd (peak day).

3. Project Sponsor and Facility: Chief Oil & Gas LLC (Loyalsock Creek), Forksville Borough, Sullivan County, Pa. Application for surface water withdrawal of up to 2.000 mgd (peak day).

4. Project Sponsor and Facility: Keister Miller Investments, LLC (West Branch Susquehanna River), Mahaffey Borough, Clearfield County, Pa. Application for surface water withdrawal of up to 2.000 mgd (peak day).

5. Project Sponsor and Facility: Shrewsbury Borough, York County, Pa. Application for renewal and modification to increase groundwater withdrawal by an additional 0.024 mgd (30-day average), for a total of up to 0.089 mgd (30-day average) from the Blouse Well (Docket No. 19820103).

6. Project Sponsor and Facility: Shrewsbury Borough, York County, Pa. Application for renewal of groundwater withdrawal of up to 0.099 mgd (30-day average) from the Smith Well (Docket No. 19811203).

7. Project Sponsor and Facility: Talisman Energy USA Inc. (Wappasening Creek), Windham Township, Bradford County, Pa. Application for renewal of surface water withdrawal of up to 1.000 mgd (peak day) (Docket No. 20110621).

8. Project Sponsor: UGI Development Company. Project Facility: Hunlock Creek Energy Center, Hunlock Township, Luzerne County, Pa. Modification to increase consumptive water use by an additional 1.526 mgd (peak day), for a total of up to 2.396 mgd (peak day) (Docket No. 20090916).

Authority: Pub.L. 91-575, 84 Stat. 1509 et seq., 18 CFR parts 806, 807, and 808.

Dated: June 23, 2015.
Stephanie L. Richardson,
Secretary to the Commission.

[FR Doc. 2015-15786 Filed 6-25-15; 8:45 am]

BILLING CODE 7040-01-P